DEPARTMENT OF HOMELAND SECURITY

Agency Information Collection Activities: Submission for OMB Review; Comment Request

AGENCY: Federal Emergency Management Agency, Emergency Preparedness and Response Directorate, Homeland Security.

ACTION: Notice and request for comments.

SUMMARY: The Federal Emergency Management Agency has submitted the following proposed information collection to the Office of Management and Budget for review and clearance in accordance with the requirements of the Paperwork Reduction Act of 1995 (44 U.S.C. 3507).

Title: National Defense Executive Reserve Personal Qualifications Statement.

Type of Information Collection: Extension of a currently approved collection.

OMB Number: 1660-0001.

Abstract: The National Defense Executive Reserve (NDER) is a Federal government program coordinated by FEMA. To become a member of the NDER, individuals with the requisite qualifications must complete FEMA Form 85-3, National Defense Executive Reserve Personal Qualifications Statement. FEMA Form 85-3 is an application form that is used by Federal departments and agencies to fill NDER vacancies and to ensure that individuals are qualified to perform in the assigned emergency positions. FEMA reviews the application form to ensure that the candidate meets all basic membership qualifications for the Executive Reserve; ensures that the applicant is not already serving in a Federal department or agency sponsored unit; and, in some cases, determines the Federal department or agency best suited for the applicant.

Affected Public: Individuals or Households.

Number of Respondents: 50.

Estimated Time per Respondent: 30 minutes.

Estimated Total Annual Burden Hours: 25 hours.

Frequency of Response: On occasion.

Comments: Interested persons are invited to submit written comments on the proposed information collection to the Desk Officer for the Federal Emergency Management Agency, Emergency Preparedness and Response Directorate, Department of Homeland Security, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, at (202) 646-2625, facsimile number (202) 646-3347, or e-mail address InformationCollections@fema.gov.

Dated: April 16, 2003.
Edward W. Kernan,
Director, Information Resources Management Division, Information Technology Services Directorate.

[FR Doc. 03-10232 Filed 4-24-03; 8:45 am]

BILLING CODE 6718-01-P